ENVIRONMENTAL PROTECTION AGENCY

40 CFR Part 52

[PA156-4104a; FRL-6847-3]

Approval and Promulgation of Air Quality Implementation Plans; Commonwealth of Pennsylvania; Approval of Revisions to Volatile Organic Compounds Regulations

AGENCY: Environmental Protection Agency (EPA).

ACTION: Direct final rule.

SUMMARY: EPA is taking direct final action on revisions to the Commonwealth of Pennsylvania State Implementation Plan (SIP) submitted by the Pennsylvania Department of Environmental Protection (PADEP). The revisions consist of definitions and requirements for coatings used in mobile equipment repair and refinishing. EPA is approving these revisions to the Commonwealth of Pennsylvania's SIP in accordance with the requirements of the Clean Air Act.

DATES: This rule is effective on October 13, 2000 without further notice, unless EPA receives adverse written comment by September 13, 2000. If EPA receives such comments, it will publish a timely withdrawal of the direct final rule in the Federal Register and inform the public that the rule will not take effect.

ADDRESSES: Written comments should be mailed to David L. Arnold, Chief, Ozone & Mobile Sources Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW., Washington, DC 20460; and Pennsylvania Department of Environmental Protection, Bureau of Air Quality, P.O. Box 8468, 400 Market Street, Harrisburg, Pennsylvania 17105.

FOR FURTHER INFORMATION CONTACT: Rose Quinto, (215) 814-2182, at the EPA Region III address above, or by e-mail at quinto.rose@epa.gov.

SUPPLEMENTARY INFORMATION:

I. Background

On March 6, 2000 the Commonwealth of Pennsylvania submitted a formal revision to its State Implementation Plan (SIP). The revisions amend Chapter 121 section 121.1 Definitions, and add Chapter 129 section 129.75 Mobile Equipment Repair and Refinishing, pertaining to volatile organic compound (VOC) control requirements for motor vehicle repair and refinishing facilities.

II. Summary of SIP Revision

The March 6, 2000 submittal amends Chapter 121, section 121.1 to add definitions of terms used in the substantive provisions in Chapter 129. The definitions include: automotive pretreatment, automotive primer-sealer, automotive primer-surfacer, automotive specialty coating, automotive topcoat, antique motor vehicle, classic motor vehicle, mobile equipment, and automotive touch up repair. Airless spray was added for clarification, and automotive elastomeric coating, automotive impact-resistant coating, automotive jambing clearcoat, automotive lacquer, automotive low-gloss coating, and automotive multicolored topcoat were added to make the final rule consistent with Federal regulations.

Section 129.75 establishes allowable VOC content requirements for coatings used in mobile equipment repair and refinishing. Section 129.75(a) applies to a person who applies mobile equipment repair and refining or color matched coatings to mobile equipment or mobile equipment components. Section 129.75(b) establishes exceptions to the general applicability of the rules where the coating is done in an automobile assembly plant or by an individual who does not receive compensation for application of the coatings. Section 129.75(c) establishes the VOC content of automobile refinished coatings: the allowable VOC content (as applied), and the weight of VOC per volume of coating (minus water and non-VOC solvents). Section 129.75(d) provides the methodology for calculating the VOC emissions, which includes documentation concerning the VOC content of the coatings calculated. Section 129.75(e) establishes application techniques and time frames for existing and new facilities. Sections 129.75(f), (g) and (h) establish the requirements for cleaning spray guns associated with this source category and housekeeping, pollution prevention, and training requirements for individuals applying mobile equipment repair and refinishing coatings.

EPA is publishing this rule without prior proposal because the Agency views this as a noncontroversial amendment and anticipates no adverse comment since the revisions are administrative changes to the state regulations. However, in the “Proposed Rules” section of today's Federal Register, EPA is publishing a separate document that will serve as the proposal to approve the SIP revision if adverse comments are filed. This rule will be effective on October 13, 2000 without further notice unless EPA receives adverse comment by September 13, 2000. If EPA receives adverse comment, EPA will publish a timely withdrawal in the Federal Register informing the public that the rule will not take effect. EPA will address all public comments in a subsequent final rule based on the proposed rule. EPA will not institute a second comment period on this action. Any parties interested in commenting must do so at this time.

III. Final Action

EPA is approving, as revisions to the Pennsylvania SIP, the amendments to Chapter 121 General Provisions, section 121.1. Definitions, and the addition of Chapter 129 Standards For Sources, section 129.75 Mobile Equipment Repair and Refinishing, pertaining to volatile organic compound (VOC) control requirements for motor vehicle repair and refinishing facilities. These revisions were submitted by the Commonwealth of Pennsylvania on March 6, 2000.

IV. Administrative Requirements

A. General Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings' issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action, approving revisions to Pennsylvania volatile organic compounds regulations pertaining to VOC control requirements for motor vehicle repair and refinishing facilities, must be filed in the United States Court of Appeals for the appropriate circuit by October 13, 2000. Filing a petition for reconsideration by the Administrator of this final rule does not affect the finality of this rule for the purposes of judicial review nor does it extend the time within which a petition for judicial review may be filed, and shall not postpone the effectiveness of such rule or action. This rule may not be challenged later in proceedings to enforce its requirements. (See section 307(b)(2).)

List of Subjects in 40 CFR Part 52

Environmental protection, Air pollution control, Hydrocarbons, Incorporation by reference, Intergovernmental relations, Ozone, Reporting and recordkeeping requirements.

Dated: July 20, 2000.
Thomas C. Voltaggio,
Acting Regional Administrator, Region III.

40 CFR part 52 is amended as follows:

PART 52—[AMENDED]

1. The authority citation for part 52 continues to read as follows:

Authority: 42 U.S.C. 7401 et seq.

Subpart NN—Pennsylvania

2. Section 52.2020 is amended by adding paragraph (c)(148 ) to read as follows:

§ 52.2020 Identification of plan.

* * * * *

(c) * * *

(148) Revisions to the Pennsylvania Regulations pertaining to certain VOC regulations submitted on March 6, 2000 by the Pennsylvania Department of Environmental Protection:

(i) Incorporation by reference.

(A) Letter of March 6, 2000 from the Pennsylvania Department of Environmental Protection transmitting the revisions to VOC regulations.

(B) Addition of definitions to 25 PA Code Chapter 121, General Provisions, at section 121.1 Definitions; addition of new section to 25 PA Code Chapter 129, Standards For Sources, section 129.75, Mobile Equipment Repair and Refinishing. These revisions became effective on November 27, 1999.

(ii) Additional material.

(A) Remainder of the March 6, 2000 submittal.

[FR Doc. 00-20531 Filed 8-11-00; 8:45 am]

BILLING CODE 6560-50-U